DEPARTMENT OF THE INTERIOR

Bureau of Land Management

[NV-930-1920-ET-4138; NVN-50250]

Public Land Order No. 7534; Extension of Public Land Order No. 6802; Nevada

AGENCY: Bureau of Land Management, Interior.

ACTION: Public land order.

SUMMARY: This order extends Public Land Order No. 6802 until January 31, 2010. This extension is necessary in order for the Department of Energy to maintain the physical integrity of the subsurface environment to ensure that scientific studies for site characterization at Yucca Mountain are not invalidated or otherwise adversely impacted.

EFFECTIVE DATE: September 25, 2002.

FOR FURTHER INFORMATION CONTACT: Dennis J. Samuelson, BLM Nevada State Office, PO Box 12000, Reno, Nevada 89520-0006, 775-861-6532.

Order

By virtue of the authority vested in the Secretary of the Interior by Section 204 of the Federal Land Policy and Management Act of 1976, 43 U.S.C. 1714 (1994), it is ordered as follows:

1. Public Land Order No. 6802 (55 FR 39152, September 25, 1990), which withdrew 4,255.50 acres of public land in order to maintain the physical integrity of the subsurface environment to ensure that scientific studies for site characterization by the Department of Energy at Yucca Mountain are not invalidated or otherwise adversely impacted, is hereby extended until January 31, 2010.

2. Public Land Order No. 6802 will expire on January 31, 2010, unless, as a result of a review conducted prior to the expiration date pursuant to Section 204(f) of the Federal Land Policy and Management Act of 1976, 43 U.S.C. 1714(f) (1994), the Secretary determines that the withdrawal shall be extended.

Dated: July 31, 2002.
Rebecca W. Watson,
Assistant Secretary—Land and Minerals Management.

[FR Doc. 02-20720 Filed 8-14-02; 8:45 am]

BILLING CODE 4310-HC-P